FEDERAL MARITIME COMMISSION

Ocean Transportation Intermediary License; Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier Ocean Transportation Intermediary Applicants

T.V.L. Global Logistics (N.Y.) Corp., 136-20 38th Ave., Ste. 11H, Flushing, NY 11354. Officers: Kang Chu, Vice President (Qualifying Individual), Chuang-Hsing Chueh, President.

High Cube, LLC, 23461 Robinbrook Pl., Diamond Bar, CA 91765. Officer: Chien H. Chen, General Manager (Qualifying Individual).

Slavica Trans Inc., 61 Langdon Pl., Lynbrook, NY 11563. Officer: Slavica Pulisic, President (Qualifying Individual).

C.E.I. Logistics, Inc., 340 E. Maple Ave., Ste. 305, Langhorne, PA 19047. Officers: William D. Pfender, President (Qualifying Individual), Patricia A. Gadaleta, Secretary.

Blue Ocean Logistics Corporation dba B.O Logistic Corp., 25835 Narbonne Ave., Ste. 280A, Lomita, CA 90717. Officer: Bok Kun Yeom, President (Qualifying Individual).

Deluxe Shipping Inc., 220 Ingraham St., Ste. 1C, Brooklyn, NY 11237. Officer: Taras Kordonsky, Secretary (Qualifying Individual).

Non-Vessel-Operating Common Carrier and Ocean Freight Forwarder Transportation Intermediary Applicants

The Inland Sea, Inc. dba TIS Worldwide, 9601 Carnegie Ave., Ste. 100, El Paso, TX 79925. Officers: Fritz Schult, Vice President (Qualifying Individual), Georg Keonigsmann, President.

Euroworld Transport System America Inc., 350 S. Northwest Hwy., Ste. 300, Park Ridge, IL 60068. Officer: Michael J. Smith, Vice President (Qualifying Individual).

Chelston Williams dba Willy Shipping, 308 New Hempstead Road, New City, NY 10956. Officer: Chelston E. Williams, CEO (Qualifying Individual).

SDC International Inc., 2033 Gateway Pl., 5th Floor, San Jose, CA 95110. Officers: Anthony Pineda, CFO (Qualifying Individual), Kfir Cohen, President.

Hardee Logistics, Inc., 404 Hardee Road, Coral Gables, FL 33146. Officers: Manuel Menendez, President (Qualifying Individual), Alina Menendez, Vice President.

Clark Worldwide Transportation, Inc., 121 New York Ave., Trenton, NJ 08638. Officers: Brian G. Gillen, President (Qualifying Individual), Gregory E. Burns, Director.

Total Transportation Services Worldwide, LLC, 2611 Waterway Parkway E Dr., Ste. 100, Indianapolis, IN 46214. Officer: Katherine A. Gerard, Vice President (Qualifying Individual).

JP Shipping and Son, Inc., 7860 NW. 80 St., Medley, FL 33166. Officer: Leonard M. Perez, President (Qualifying Individual).

John William LaFargue dba Impex Services, 37 Locke Lane, Mill Valley, CA 94941. Officers: John W. LaFargue, Owner (Qualifying Individual), Elizabeth A. LaFargue, Dir. of Int'l. Logistics.

Propi U.S.A., Inc., 4229 NW. 167th St., Miami Gardens, FL 33055. Officer: Delvis Demendoza, President (Qualifying Individual).

Ocean Freight Forwarder—Ocean Transportation Intermediary Applicants

Dandino, Inc. dba Relo Moving, 626 E. 62nd St., Los Angeles, CA 90001. Officer: Yaniv Daniel, President (Qualifying Individual).

A.R. Savage & Son Ship's Agents, Charterer's Agents & Ocean Freight Forwarders, Inc., 701 Harbour Post Drive, Tampa, FL 33602. Officer: Arthur R. Savage, President (Qualifying Individual).

Folgueras Customs Broker Corp., 8100 W. 28th Court, Ste. 107, Hialeah, FL 33018. Officers: Fernando Folgueras, President (Qualifying Individual). Marisel U. Folgueras.

IVI Freight Systems Inc., 9112 NW. 120 Ter., Hialeah Gardens, FL 33018. Officer: Zoraya Ortega, President (Qualifying Individual).

Gruden USA, Inc., 51 Newark St., Ste. 302, Hoboken, NJ 07030. Officer: Carmella De Primo, Vice President (Qualifying Individual).

Dated: August 7, 2009.
Karen V. Gregory,
Secretary.

[FR Doc. E9-19358 Filed 8-11-09; 8:45 am]

BILLING CODE 6730-01-P